RAILROAD RETIREMENT BOARD

Agency Forms Submitted for OMB Review, Request for Comments

SUMMARY: In accordance with the Paperwork Reduction Act of 1995 (44 U.S.C. Chapter 35), the Railroad Retirement Board (RRB) is forwarding two Information Collection Requests (ICR) to the Office of Information and Regulatory Affairs (OIRA), Office of Management and Budget (OMB). Our ICR describes the information we seek to collect from the public. Review and approval by OIRA ensures that we impose appropriate paperwork burdens.

The RRB invites comments on the proposed collections of information to determine (1) The practical utility of the collections; (2) the accuracy of the estimated burden of the collections; (3) ways to enhance the quality, utility, and clarity of the information that is the subject of collection; and (4) ways to minimize the burden of collections on respondents, including the use of automated collection techniques or other forms of information technology. Comments to the RRB or OIRA must contain the OMB control number of the ICR. For proper consideration of your comments, it is best if the RRB and OIRA receive them within 30 days of the publication date.

1. Title and purpose of information collection: Repayment of Debt; OMB 3220-0169. When the Railroad Retirement Board (RRB) determines that an overpayment of Railroad Retirement Act (RRA) or Railroad Unemployment Insurance Act (RUIA) benefits has occurred, it initiates prompt action to notify the annuitant of the overpayment and to recover the money owed the RRB. To effect payment of a debt by credit card, the RRB utilizes Form G-421F, Repayment by Credit Card. RRB procedures pertaining to benefit overpayment determinations and the recovery of such benefits are prescribed in 20 CFR part 255 and 340. One form is completed by each respondent. Completion is voluntary.

Previous Requests for Comments: The RRB has already published the initial 60-day notice (78 FR 6152 on January 29, 2013) required by 44 U.S.C. 3506(c)(2). That request elicited no comments.

Information Collection Request (ICR)

Title: Repayment of Debt.

OMB Control Number: 3220-0169.

Form(s) submitted: G-421F.

Type of request: Revision of a currently approved collection.

Affected public: Individuals or Households.

Abstract: When the RRB determines that an overpayment of benefits under the Railroad Retirement Act or Railroad Unemployment Insurance Act has occurred, it initiates action to notify the claimant of the overpayment and to recover the amount owed. The collection obtains information needed to allow for repayment by the claimant by credit card, in addition to the customary form of payment by check or money order.

Changes proposed: The RRB proposes minor non-burden impacting editorial changes to Form G-421F.

The burden estimate for the ICR is as follows:

Form number | Annual responses | Time (minutes) | Burden (hours)
G-421F | 535 | 5 | 45
Total | 535 |  | 45

2. Title and Purpose of information collection: Job Information Report; OMB 3220-0193. In July of 1997, the Railroad Retirement Board (RRB) adopted standards for the adjudication of occupational disabilities under the Railroad Retirement Act (RRA). As part of these standards, the RRB requests job information to determine an applicant's eligibility for an occupational disability. The job information received from the railroad employer and railroad employee is compared, reconciled (if needed), and then used in the occupational disability determination process. The process of obtaining information from railroad employers used to determine an applicant's eligibility for an occupational disability is outlined in 20 CFR 220.13(b)(2)(e).

To determine an occupational disability, the RRB must decide if the employee is precluded from performing the full range of duties of his or her regular railroad occupation. This is accomplished by comparing the restrictions an impairment(s) causes against an employee's ability to perform his/her normal duties. To collect information needed to determine the effect of a disability on an employee applicant's ability to work, the RRB needs the employee applicant's work history. To obtain this information from the employee applicant, the RRB utilizes Form G-251, Vocational Report (OMB 3220-0141). Note: Form G-251 is provided to all applicants for employee disability annuities and to those applicants for a widow or widower's disability annuity who indicate that they have been employed at some time.

In accordance with the standards, the RRB also requests pertinent job information from employers. The employer is given thirty days from the date of the notice to respond. The responses are not required, but are voluntary. If the job information is received timely, it is compared to the job information provided by the employee. Any material differences are resolved by an RRB disability examiner. Once resolved, the information is compared to the restrictions caused by the medical impairment. If the restrictions prohibit the performance of the regular railroad occupation, the claimant is found occupationally disabled.

To obtain the job information from the railroad employer, the RRB uses the following two forms. RRB Form G-251a, Employer Job Information—Job Description, is released to an employer when an application for an occupational disability is filed by an employee whose regular railroad occupation is one of the more common types of railroad jobs (locomotive engineer, conductor, switchman, etc.). It is accompanied by a “generic job description” for that particular railroad job. The generic job description describes how the select occupation is generally performed in the railroad industry. However, because not all occupations are performed the same way from railroad to railroad, the employer is given an opportunity to comment on whether the job description matches the employee's actual duties. If the employer concludes that the generic job description accurately describes the work performed by the applicant, no further action is necessary. If the employer determines that the tasks are different, it may provide the RRB with a description of the actual job tasks. The employer has thirty days from the date the form is released to respond.

Form G-251b, Employer Job Information—General, is released to an employer when an application for an RRB occupational disability is filed by an employee whose regular railroad occupation does not have a generic job description. It notifies the employer that the employee has filed for a disability annuity and that, if the employer wishes, it may provide the RRB with job duty information. The type of information the RRB is seeking is outlined on the form. The employer has thirty days from the date the form is released to reply. Completion is voluntary.

Previous Requests for Comments: The RRB has published the initial 60-day notice (77 FR 63359 on October 16, 2012) required by 44 U.S.C. 3506(c)(2).

Information Collection Request (ICR)

Title: Job Information Report.

OMB Control Number: 3220-0193.

Form(s) submitted: G-251a and G-251b.

Type of request: Extension without change of a currently approved collection.

Affected public: Business or other for profit.

Abstract: The collection obtains information used by the Railroad Retirement Board (RRB) to assist in determining whether a railroad employee is disabled from his or her regular occupation. It provides, under certain conditions, railroad employers with the opportunity to provide information to the RRB regarding the employee applicant's job duties.

Changes proposed: The RRB proposes no changes to the forms in the information collection.

The burden estimate for the ICR is as follows:

Form number | Annual responses | Time (minutes) | Burden (hours)
G-251a | 125 | 20 | 42
G-251b | 305 | 20 | 102
Total | 430 |  | 144

Additional Information or Comments: Copies of the forms and supporting documents can be obtained from Dana Hickman at (312) 751-4981 or Dana.Hickman@RRB.GOV.

Comments regarding the information collection should be addressed to Charles Mierzwa, Railroad Retirement Board, 844 North Rush Street, Chicago, Illinois 60611-2092 or Charles.Mierzwa@RRB.GOV and to the OMB Desk Officer for the RRB, Fax: 202-395-6974, Email address: OIRA_Submission@omb.eop.gov.

Charles Mierzwa,
Chief of Information Resources Management.

[FR Doc. 2013-09209 Filed 4-18-13; 8:45 am]

BILLING CODE 7905-01-P